DEPARTMENT OF HOMELAND SECURITY

Coast Guard

33 CFR Part 117

[CGD08-07-019]

RIN 1625-AA09

Drawbridge Operation Regulation; Ouachita River, Louisiana

AGENCY: Coast Guard, DHS.

ACTION: Notice of deviation from drawbridge regulation.

SUMMARY: The Commander, Eighth Coast Guard District has issued a temporary deviation from the regulation governing the operations of the Kansas City Southern Railroad Drawbridge, Mile 167.1, Monroe, Louisiana across the Ouachita River. This deviation allows the bridge to remain closed-to-navigation from 8 a.m., beginning November 1, 2007 for up to 18 consecutive days. The deviation is necessary in order to finish repairs on the pivot pier and connect the navigation span to the pivot pier.

DATES: This temporary deviation is effective from 8 a.m., November 1, 2007 until November 19, 2007.

ADDRESSES: Materials referred to in this document are available for inspection or copying at Room 2.107F in the Robert A. Young Federal Building, 1222 Spruce Street, St. Louis, MO 63103-2832, between 8 a.m. and 4 p.m., Monday through Friday, except Federal holidays. The Bridge Administration Branch maintains the public docket for this temporary deviation.

FOR FURTHER INFORMATION CONTACT: Roger K. Wiebusch, Bridge Administrator, (314) 269-2378.

SUPPLEMENTARY INFORMATION: The Kansas City Southern Railway Company requested a temporary deviation for the Kansas City Southern Railroad Drawbridge, Mile 167.1, Monroe, Louisiana across the Ouachita River in order to finish repairs to the pivot pier and connect the navigation span to the pivot pier. The Kansas City Southern Railroad Drawbridge currently operates in accordance with 33 CFR 117.5 which requires the drawbridge to open promptly and fully for the passage of vessels when a request to open is given. In order to facilitate the repairs to the pivot pier, the drawbridge must be kept in the closed-to-navigation position. This deviation allows the drawbridge to remain closed-to-navigation from 8 a.m., beginning November 1, 2007 for a maximum of 18 consecutive days.

There are no alternate routes for vessels transiting this section of the Ouachita River.

The Kansas City Southern Railroad Drawbridge, in the closed-to-navigation position, provides a vertical clearance of 28.0 feet above normal pool. Navigation on the waterway consists primarily of commercial tows and recreational watercraft. This temporary deviation has been coordinated with waterway users. No objections were received.

Dated: August 7, 2007.
Roger K. Wiebusch,
Bridge Administrator.

[FR Doc. E7-16193 Filed 8-16-07; 8:45 am]

BILLING CODE 4910-15-P